NATIONAL FOUNDATION FOR THE ARTS AND HUMANITIES

Notice of Proposed Information Collection: Assessing Trends and Results of the Laura Bush 21st-Century Librarians Grant Program 2003-2008

AGENCY: Institute of Museum and Library Services, National Foundation for the Arts and Humanities.

SUMMARY: The Institute of Museum and Library Services (IMLS) as part of its continuing effort to reduce paperwork and respondent burden, conducts a pre-clearance consultation program to provide the general public and federal agencies with an opportunity to comment on proposed and/or continuing collections of information in accordance with the Paperwork Reduction Act of 1995 (PRA95) [44.U.S.C. 3508(2)(A)]. This program helps to ensure that requested data can be provided in the desired format reporting burden (time and financial resources) is minimized, collection instruments are clearly understood, and the impact of collection requirements on respondents can be properly assessed. The Institute of Museum and Library Services is soliciting comments on a proposed study to assess the effectiveness of various methods used to distribute funds to the nation's museums.

DATES: Written comments must be submitted to the office listed in the ADDRESSES section below on or before January 7, 2008.IMLS is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Send comments to: Mamie Bittner, Deputy Director, Office of Policy, Planning, Research, and Communications, Institute of Museum and Library Services, 1800 M Street, NW., 9th Floor, Washington, DC. Ms. Bittner can be reached by telephone: 202-653-4630; fax: 202-653-4600; or e-mail: mbittner@imls.gov.

SUPPLEMENTARY INFORMATION:

I. Background

The Institute of Museum and Library Services is authorized by the Museum and Library Services Act, Public Law 108-81, and is the primary source of federal support for the nation's 122,000 libraries and 17,500 museums. The Institute's mission is to create strong libraries and museums that connect people to information and ideas. The Institute works at the national level and in coordination with state and local organizations to sustain heritage, culture, and knowledge; enhance learning and innovation; and support professional development.

II. Current Actions

The IMLS Laura Bush 21st-Century Librarian grant program was initiated at the request of the President in 2002 to help address the anticipated retirement of a very large cohort of library professionals before the year 2010, and to help assure that libraries are well staffed and well prepared to meet the needs of a population that is steadily increasing in cultural and language diversity throughout the United States. This program has made 172 grants between 2003 and 2007. IMLS wishes to understand trends and results of grants and activities in the Laura Bush 21st-Century Librarian program to date. The analysis will be framed by five key questions:

(1) What impact has this program made on numbers and demography of individuals seeking professional degrees and employment in the fields of library and information sciences?

(2) What impact has this program made on the numbers and demography of individuals employed in library and information sciences, in library service, and in the education and training of library and information science personnel?

(3) What impact has this program had on the career development of individuals employed in the delivery of library and information services, and in the education and training of such individuals?

(4) What impact has this program made on the understanding of key issues and phenomena related to the delivery and effectiveness of library and information service?

(5) Is there a continuing need for this program, and if so, what are the key needs that should be met in the next five years?

Once completed, the results of the study will be incorporated into a report which will be made widely available to inform and benefit the museum community and the public at large.

Agency: Institute of Museum and Library Services.

Title: Assessing Trends an Results of the Laura Bush 21st-Century Librarians Grant Program 2003-2008.

OMB Number: N/A.

Agency Number: 3137.

Frequency: One time.

Affected Public: Libraries, State Library Administrative Agencies, institutions of higher education, library professional associations, Native American tribal governments, school officials and educators, and individuals.

FOR FURTHER INFORMATION CONTACT: Mamie Bittner, Deputy Director, Office of Policy, Planning, Research, and Communications, Institute of Museum and Library Services, 1800 M Street, NW., 9th Floor, Washington, DC. Ms. Bittner can be reached by telephone: 202-653-4630; fax: 202-653-4600; or e-mail: mbittner@imls.gov.

Dated: October 31, 2007.
Barbara Smith,
E-Projects Officer.

[FR Doc. E7-21706 Filed 11-5-07; 8:45 am]

BILLING CODE 7036-01-P